DEPARTMENT OF COMMERCE

International Trade Administration

[Application No. 97-11A03]

Export Trade Certificate of Review

ACTION: Notice of application (97-11A03) to amend the Export Trade Certificate of Review issued to Association for the Administration of Rice Quotas, Inc. (AARQ).

SUMMARY: The Office of Competition and Economic Analysis (“OCEA”) of the International Trade Administration, Department of Commerce, has received an application to amend an Export Trade Certificate of Review (“Certificate”). This notice summarizes the proposed amendment and requests comments relevant to whether the amended Certificate should be issued.

FOR FURTHER INFORMATION CONTACT: Monica Barnes, Office of Competition and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 7021-X, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 97-11A03.”

AARQ's original Certificate was issued on January 21, 1998 (63 FR 4220, January 28, 1998). A summary of the current application for an amendment follows.

Summary of the Application

Applicant: Association for the Administration of Rice Quotas, Inc., c/o Marvin Baden, AARQ Chairman, Producers Rice Mill, Inc., 518 East Harrison Street, Stuttgart, Arkansas, 72160.

Contact: M. Jean Anderson, Counsel, Weil, Gotshal & Manges LLP, 1300 Eye Street NW., Suite 900, Washington, DC 20005, Telephone: (202) 682-7217.

Application No.: 97-11A03.

Date Deemed Submitted: December 16, 2011.

Proposed Amendment: AARQ seeks to amend its Export Trade Certificate to update the list of Members to reflect changes in ownership, corporate structures, names and locations:

1. “American Rice, Inc., Houston, Texas (a subsidiary of SOS Corporation Alimentaria, SA)” should be amended to read “American Rice, Inc., Houston, Texas (a subsidiary of Ebro Foods, S.A. (Spain))”

2. “Associated Rice Marketing Cooperative, Durham, California” should be amended to read “Associated Rice Marketing Cooperative (ARMCO), Richvale, California”

3. “Busch Agricultural Resources, LLC, St. Louis, Missouri, and its subsidiary, Pacific International Rice Mills, LLC, Woodland, California” should be amended to read “Bunge Milling, Saint Louis, Missouri (a subsidiary of Bunge North America, White Plains, New York), dba PIRMI (Pacific International Rice Mills), Woodland, California”

4. “Gulf Rice Arkansas, LLC (a subsidiary of Ansera Marketing, Inc.), Houston, Texas” should be deleted, as Gulf Rice Arkansas II, LLC, a successor to Gulf Rice Arkansas, LLC, is now a subsidiary of another member, TRC Trading Corporation (see below)

5. “Louis Dreyfus Corporation, Wilton, Connecticut” should be amended to read “LD Commodities Rice Merchandising LLC, Wilton, Connecticut, and LD Commodities Interior Rice Merchandising LLC, Kansas City, Missouri (subsidiaries of Louis Dreyfus Commodities LLC, Wilton, Connecticut)”

6. “Nidera, Inc., Wilton, Connecticut (a subsidiary of Nidera Handelscompagnie BV (Netherlands))” should be amended to read “Nidera US LLC, Wilton, Connecticut (a subsidiary of Nidera Handelscompagnie BV (Netherlands))”

7. “Noble Logistics USA Inc., Portland, Oregon” should be corrected to read “Noble Logistic USA Inc., Portland, Oregon”

8. “PS International, Ltd., Chapel Hill, North Carolina” should be amended to read “PS International LLC dba PS International, Ltd., Chapel Hill, North Carolina (jointly owned by Seaboard Corporation, Kansas City, Missouri, and PS Trading Inc., Chapel Hill, North Carolina)”

9. “Riviana Foods Inc., Houston, Texas (a subsidiary of Ebro Puleva, S.A. (Spain)” should be amended to read “Riviana Foods Inc., Houston, Texas (a subsidiary of Ebro Foods, S.A. (Spain))”

10. “TRC Trading Corporation, Roseville, California (a subsidiary of The Rice Company)” should be amended to read “TRC Trading Corporation, Roseville, California (a subsidiary of TRC Group, Inc., Roseville, California) and its subsidiary, Gulf Rice Arkansas II, LLC, Houston, Texas”

11. “Veetee Rice, Inc., Springfield, Virginia (a subsidiary of Veetee Investments (Bahamas))” should be amended to read “Veetee Rice Inc., Great Neck, New York (a subsidiary of Veetee Investments Corporation (Bahamas))”

Dated: December 22, 2011.
Joseph E. Flynn,
Director, Office of Competition and Economic Analysis.

[FR Doc. 2011-33387 Filed 12-28-11; 8:45 am]

BILLING CODE 3510-DR-P